DEPARTMENT OF DEFENSE

Office of the Secretary

[Docket ID DoD-2014-OS-0127]

Privacy Act of 1974; System of Records

AGENCY: Defense Information Systems Agency, DoD.

ACTION: Notice to add a new System of Records.

SUMMARY: The Defense Information Systems Agency proposes to add a new system of records, K890.23, entitled “DISA Inspector General Investigative Tracker (DIGit)” to its existing inventory of record systems subject to the Privacy Act of 1974, as amended. This system is used to manage investigations, to produce statistical reports, and to control various aspects of the investigative process.

DATES: Comments will be accepted on or before December 1, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jeanette Weathers-Jenkins, DISA Privacy Officer, Chief Information Office, 6916 Cooper Avenue, Fort Meade, MD 20755-7901, or by phone at (301)225-8158.

SUPPLEMENTARY INFORMATION: The Defense Information Systems Agency notices for system of records subject to the Privacy Act of 1974 (5 U.S.C. 552a), as amended, have been published in the Federal Register and are available from the address in FOR FURTHER INFORMATION CONTACT or from the Defense Privacy and Civil Liberties Office Web site http://dpclo.defense.gov/.

The proposed system report, as required by 5 U.S.C 552a(r) of the Privacy Act of 1974, as amended, was submitted on July 30, 2014, to the House Committee on Oversight and Government Reform, the Senate Committee on Governmental Affairs, and the Office of Management and Budget (OMB) pursuant to paragraph 4c of Appendix I of OMB Circular No. A-130, Federal Agency Responsibilities for Maintaining Records About Individuals,” dated February 8, 1996 (February 20, 1996, 61 FR 6427).

Dated: October 27, 2014.
Aaron Siegel,
Alternate OSD Federal Register Liaison Officer, Department of Defense.

K890.23

System name:

DISA Inspector General Investigative Tracker (DIGit).

System location:

Primary location: Defense Information Systems Agency, 6910 Cooper Ave, Ft. Meade, MD 20755-7901.

Decentralized location: Defense Information Systems Agency Regional Inspector General, DITCO-Scott, Building 3600, 2300 East Drive, Scott Air Force Base, IL 62225-5406.

Categories of individuals covered by the system:

Individuals covered include any person or activity which is or has been the complainant, witness, suspect, or subject of an IG investigation. This includes DoD employees, members of the military and contractors or non-DoD civilians who have registered a complaint.

Categories of records in the system:

Individual's name, DoD ID Number, Social Security Number (SSN), other ID numbers, case number, gender, race/ethnicity, birth date, home address, office address, home phone number, office phone numbers, personal and business email address, place of birth, marital status, employment information, law enforcement data, records of investigations to include reports of investigation, information reports and case summaries, which are being or have been conducted by the Inspector General (IG).

Authority for maintenance of the system:

Inspector General Act of 1978, (Pub. L. 452), as amended; DoD Directive 5106.1, Inspector General of the Department of Defense; DoDI 7050.01, Defense Hotline Program; DISA 100-45-1, Office of the Inspector General of the Defense Information Systems Agency; and E.O. 9397 (SSN), as amended.

Purpose(s):

The system is used to manage investigations, to produce statistical reports, and to control various aspects of the investigative process. The records in this system are used for suitability, loyalty, eligibility, and general trustworthiness of individuals for access or continued access to classified information and suitability for access to government facilities or industrial firms engaged in government projects/contracts; contractor responsibility and suspension/debarment determinations; suitability for awards or similar benefits; use in current law enforcement investigation or program of any type; use in judicial or adjudicative proceedings including litigation or in accordance with a court order; to identify offenders, to provide facts and evidence upon which to base prosecution, to provide information to other investigative elements of the Department of Defense having jurisdiction over the substance of the allegations or a related investigative interest in criminal law enforcement investigations including statutory violations, counter-intelligence, counter-espionage and counter-terrorist activities and other security matters; to effect corrective administrative action and to recover money and property which has been wrongfully used or misappropriated; to make decisions affecting personnel actions concerning members of the Armed Forces and or Federal employees; and to respond to other complaint investigations and congressional inquiries as appropriate.

Routine uses of records maintained in the system, including categories of users and the purposes of such uses:

In addition to those disclosures generally permitted under 5 U.S.C. 552a(b) of the Privacy Act of 1974, as amended, these records contained therein may specifically be disclosed outside the DoD as a routine use pursuant to 5 U.S.C. 552a(b)(3) as follows:

To the U.S. Secret Service in conjunction with the protection of persons under its jurisdiction.

To other Federal, State, local, or tribal agencies having jurisdiction over the substance of the allegations or a related investigative interest in criminal law enforcement investigations, including statutory violations, counter-intelligence, counter-espionage and counter-terrorist activities and other security matters.

To other Federal Inspector General offices, the President's Council on Integrity and Efficiency, and/or other Federal law enforcement agencies for the purpose of coordinating and conducting administrative inquiries and civil and criminal investigations, or when responding to such offices, Council, and agencies in connection with the investigation of potential violations of law, rule, and/or regulation.

To other Federal Inspector General offices, the President's Council on Integrity and Efficiency, and/or the Department of Justice for purposes of conducting external reviews to ensure that adequate internal safeguards and management procedures continue to exist within the Office of the Inspector General of the Department of Defense.

The DoD Blanket Routine Uses set forth at the beginning of the DISA's compilation of systems of records notices may apply to this system.

Policies and practices for storing, retrieving, accessing, retaining, and disposing of records in the system:

Storage:

Electronic storage media and paper records.

Retrievability:

By individual's name or case number.

Safeguards:

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know. Electronic data system is password protected and will include data encryption of some fields. Access to computerized data is restricted by Common Access Card (CAC).

Retention and disposal:

Electronic records are retained indefinitely for statistical purposes. Paper records for administrative investigations are archived 5 years after cases are closed. Paper records for criminal investigations are archived 20 years after cases are closed.

System manager(s) and address:

Chief, Investigations Division, DISA IG, 6910 Cooper Ave, Ft. Meade, MD 20755-7901.

Notification procedure:

Individuals seeking to determine whether information about themselves is contained in this system should address written inquiries to Defense Information Systems Agency, ATTN: Headquarters FOIA Requester Service Center, P.O. Box 549, Ft Meade, MD 20755-0549.

Request should contain the individual's full name, SSN or DoD ID Number, current address for reply, and telephone number.

Record access procedures:

Individuals seeking access to information about themselves contained in this system should address written inquiries to Defense Information Systems Agency, ATTN: Headquarters FOIA Requester Service Center, P.O. Box 549, Ft Meade, MD 20755-0549.

Requests should contain the individual's full name, SSN or DoD ID Number, current address for reply, telephone number, and signature and provide a reasonable description of what they are seeking.

Contesting record procedures:

Individuals seeking to contest contents and to appeal initial agency determinations should address written inquiries to Defense Information Systems Agency, ATTN: Headquarters FOIA Requester Service Center, P.O. Box 549, Ft Meade, MD 20755-0549.

Record source categories:

Subjects and suspects of IG investigations. Interviews of witnesses, victims, and complainants. All types of records and information maintained by all levels of government, private industry, and non-profit organizations reviewed during the course of the investigation or furnished to the IG. Any other type of record deemed necessary to complete the IG investigation.

Exemptions claimed for the system:

Parts of this system may be exempt pursuant to 5 U.S.C. 552a(j)(2) if the information is compiled and maintained by a component of the agency which performs as its principle function any activity pertaining to the enforcement of criminal laws.

Investigatory material compiled for law enforcement purposes may be exempt pursuant to 5 U.S.C. 552a(k)(2). However, if an individual is denied any right, privilege, or benefit for which he would otherwise be entitled by Federal law or for which he would otherwise be eligible, as a result of the maintenance of such information, the individual will be provided access to such information except to the extent that disclosure would reveal the identity of a confidential source.

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with requirements of 5 U.S.C. 553(b)(1), (2), and (3), (c) and (e) and published in 32 CFR part 316. For additional information contact the system manager.

[FR Doc. 2014-25806 Filed 10-29-14; 8:45 am]

BILLING CODE 5001-06-P